DEPARTMENT OF JUSTICE

Notice of Lodging of Consent Decree Pursuant to the Clean Air Act

In accordance with 28 CFR 50.7, notice is hereby given that on September 26, 2001, a Consent Decree was lodged with the United States District Court for the District of Massachusetts in United States v. National Metal Finishing Corporation, Civil Action No. 01-30175-FHF. A complaint in the action was also filed simultaneously with the lodging of the Consent Decree. In the complaint the United States, on behalf of the U.S. Environmental Protection Agency (EPA), alleges that National Metal Finishing Corporation (National) violated the Clean Air Act, 42 U.S.C. 7412, et seq., at its decorative chromium plating facility in Springfield, Massachusetts. The violations involve EPA requirements for reporting, notification and work practice standards for chromium and halogenated solvent emissions. Under the terms of the Consent Decree, National will pay a $29,729 civil penalty and perform a supplemental environmental project that will reduce water pollution in the Springfield area and the Connecticut River.

The Department of Justice will receive comments relating to the proposed Consent Decree for a period of thirty (30) days from the date of this publication. Comments should be addressed to the Assistant Attorney General, Environment and Natural Resources Division, Department of Justice, PO Box 7611, Washington, DC 20044, and should refer to United States v. National Metal Finishing Corporation, D.J. Ref. 90-5-2-1-06723.

The proposed consent decree may be examined at the office of the United States Attorney, Suite 310, 1550 Main Street, Springfield, Massachusetts, and at the Region I office of the Environmental Protection Agency, One Congress Street, Suite 1100, Boston, Massachusetts 02114. A copy of the proposed consent decree may also be obtained by mail from the Department of Justice Consent Decree Library, PO Box 7611, Washington, DC 20044. In requesting a copy, please enclose a check (there is a 25 cent per page reproduction cost) in the amount of $7.75 payable to the “Consent Decree Library.”

Ronald G. Gluck,
Assistant Chief, Environmental Enforcement Section, Environment & Natural Resources Division.

[FR Doc. 01-28569 Filed 11-14-01; 8:45 am]

BILLING CODE 4410-15-M